Proclamation 8715 of September 16, 2011

National Employer Support of the Guard and Reserve Week, 2011

By the President of the United States of America

A Proclamation

Since September 11, 2001, the 9/11 Generation has borne the burden of war with courage and valor, continuing the legacy of the brave men and women who served before them. More than five million volunteers have worn our country’s uniform over the past 10 years, and thousands have given their lives in Iraq and Afghanistan. Making up nearly half of our military power, the National Guard and Reserve are vital to our operations at home and abroad.

During America’s struggle for independence, ordinary individuals in small towns across the colonies banded together to confront an empire. Today, their spirit lives on in the Guard and Reserve. The members of our National Guard and Reserve demonstrate the dignity and selflessness that are at the core of the American spirit. These patriots serve not only in combat, but also when disaster strikes at home, offering a strong hand to victims of floods, tornadoes, and fires across America.

The employers who provide jobs to our Guard and Reserve members when they are home are also vital to our success. Many of these businesses go above and beyond, offering tremendous support to service members and their families during deployments. We are deeply grateful for their work, and this week, we celebrate not only our service members, veterans, and military families, but also their devoted employers.

The extraordinary service of our Guard and Reserve members would not be possible without the unwavering support and care provided by their families and civilian employers. To help connect our service members, veterans, and their families to the opportunities they deserve, the First Lady and Dr. Jill Biden announced Joining Forces, a comprehensive national initiative to support and honor these patriots. As part of this initiative, we issued a challenge to private sector employers to hire or train 100,000 unemployed veterans or their spouses. We have also proposed tax credits for businesses that hire our returning heroes—they fought for our country, and the last thing they should have to do is fight for a job when they come home.

This week, we remember our obligations to each other, and we pay tribute to the employers of our Guardsmen and Reservists whose support and flexibility is vital to the strength of our military. The United States is at its strongest when we live up to our sacred duty to honor and care for our service members when they come home. The support of employers across our country reflects the best of the American spirit—the understanding that we are bound together to serve and protect our Nation.

NOW, THEREFORE, I, BARACK OBAMA, President of the United States of America, by virtue of the authority vested in me by the Constitution and the laws of the United States, do hereby proclaim September 18 through September 24, 2011, as National Employer Support of the Guard and Reserve Week. I call upon all Americans to join me in expressing our heartfelt thanks to the members of the National Guard and Reserve and their civilian employers. I also call on State and local officials, private organizations, and all military commanders, to observe this week with appropriate ceremonies and activities.

IN WITNESS WHEREOF, I have hereunto set my hand this sixteenth day of September, in the year of our Lord two thousand eleven, and of the Independence of the United States of America the two hundred and thirty-sixth.

[FR Doc. 2011-24441

Filed 9-20-11; 11:15 am]

Billing code 3195-W1-P